DEPARTMENT OF HEALTH AND HUMAN SERVICES

Food and Drug Administration

21 CFR Part 890

[Docket No. FDA-2013-N-0568]

Physical Medicine Devices; Reclassification of Stair-Climbing Wheelchairs; Correction

AGENCY: Food and Drug Administration, HHS.

ACTION: Proposed order; correction.

SUMMARY: The Food and Drug Administration (FDA) is correcting a proposed order that appeared in the Federal Register of June 12, 2013 (78 FR 35173). The document proposed to reclassify stair-climbing wheelchairs. The document was published with typographical errors in the DATES section of the document. This document corrects those errors.

FOR FURTHER INFORMATION CONTACT: Rebecca Nipper, Center for Devices and Radiological Health, 10903 New Hampshire Ave., Bldg. 66, Rm. 1540, Silver Spring, MD 20993, 301-796-6527.

SUPPLEMENTARY INFORMATION: In the FR Doc. 2013-13864, appearing on page 35173 in the Federal Register of Wednesday, June 12, 2013, the following correction is made.

On page 35173, in the third column, the first sentence under DATES is corrected to read “Submit either electronic or written comments on this proposed order by September 10, 2013.”

Dated: June 26, 2013.
Leslie Kux,
Assistant Commissioner for Policy.

[FR Doc. 2013-15789 Filed 7-1-13; 8:45 am]

BILLING CODE 4160-01-P